DEPARTMENT OF EDUCATION

Federal Pell Grant, Academic Competitiveness Grant, National Science and Mathematics Access To Retain Talent Grant, Federal Perkins Loan, Federal Work-Study, Federal Supplemental Educational Opportunity Grant, Federal Family Education Loan, and William D. Ford Federal Direct Loan Programs; Correction

AGENCY: Federal Student Aid, U.S. Department of Education.

ACTION: Correction; Notice of revision of the Federal Need Analysis Methodology for the 2008-2009 award year.

SUMMARY: We correct two column headings for the Education Savings and Asset Protection Allowance tables in the notice published on June 1, 2007 (72 FR 30570).

SUPPLEMENTARY INFORMATION: On June 1, 2007, we published a notice in the Federal Register (72 FR 30568-30572), Notice of revision of the Federal Need Analysis Methodology for the 2008-2009 award year. The heading “If the age of the student is” (as published in the three tables on page 30570) is corrected to read, “If the age of the older parent is”. This correction should be made only to the first of the three tables, titled “Dependent Students” on page 30570. The right column of the same table (Dependent Students) is labeled, “And they are”, is corrected to read, “And there are”.

FOR FURTHER INFORMATION CONTACT: Ms. Marya Dennis, Management and Program Analyst, U.S. Department of Education, Union Center Plaza, 830 First Street, NE., Washington, DC 20202. Telephone: (202) 377-3385. If you use a telecommunications device for the deaf (TDD), you may call the Federal Relay Service (FRS) at 1-800-877-8339.

Individuals with disabilities may obtain this document in an alternative format (e.g., Braille, large print, audiotape or computer diskette) on request to the contact person listed in the preceding paragraph.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 17, 2007.
Lawrence A. Warder,
Acting Chief Operating Officer, Federal Student Aid.

[FR Doc. E7-14108 Filed 7-19-07; 8:45 am]

BILLING CODE 4000-01-P